DEPARTMENT OF ENERGY

Federal Energy Regulatory Commission

[Docket Nos. RP00-15-003, RP00-632-004 and CP00-64-002]

Dominion Transmission, Inc.; Notice of In-Service Date of Capstone Project

September 21, 2001.

Take notice that on August 22, 2001, Dominion Transmission, Inc. (DTI), filed with the Federal Energy Regulatory Commission (Commission) a letter notice stating that the in-service date of the Capstone facilities will be on or before November 1, 2001.

DTI states that the purpose of this informational filing is to comply with Section 6.4 of the Offer of Settlement that was filed on June 22, 2001, in Docket Nos. RP00-632-000, RP97-406, et al., and RP00-15 (Settlement). The Settlement is unopposed and is pending Commission action. The Settlement would allow DTI to increase its transportation fuel retention percentage by 0.22 percent on the in-service date of the “Capstone Project,” a facility expansion that DTI is constructing in accordance with certificate of public convenience and necessity issued in Docket No. CP00-64. The Settlement calls for DTI to “notify its customers of the effective date of said increase no less than sixty days prior to the in-service date of the Capstone Project.”

DTI states that the purpose of its informational filing is to serve as the advance notice of the in-service date of the Capstone Project and the increase to DTI's fuel retention percentage. On the date that DTI places the Capstone Project facilities into service, or sixty days after the date of the filing of its letter notice with the FERC, whichever is later, DTI is prepared to place its increased fuel increment into effect, provided that the Settlement has become effective on that date.

DTI states that it has served the letter notice upon all parties of record in the above captioned proceedings.

Any person desiring to protest said filing should file a protest with the Federal Energy Regulatory Commission, 888 First Street, NE., Washington, DC 20426, in accordance with Section 385.211 of the Commission's Rules and Regulations. All such protests must be filed on or before September 28, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24145 Filed 9-26-01; 8:45 am]

BILLING CODE 6717-01-P